DEPARTMENT OF COMMERCE

International Trade Administration

[C-570-109]

Ceramic Tile From People's Republic of China: Final Results of the Expedited First Sunset Review of the Countervailing Duty Order

AGENCY: Enforcement and Compliance, International Trade Administration, Department of Commerce.

SUMMARY: The U.S. Department of Commerce (Commerce) finds that revocation of the countervailing duty (CVD) order on ceramic tile from the People's Republic of China (China) would be likely to lead to continuation or recurrence of countervailable subsidies at the levels indicated in the “Final Results of Sunset Review” section of this notice.

DATES: Applicable August 25, 2025.

FOR FURTHER INFORMATION CONTACT: Catherine Bertrand, Trade Agreements Policy and Negotiations, Enforcement and Compliance, International Trade Administration, U.S. Department of Commerce, 1401 Constitution Avenue NW, Washington, DC 20230; telephone: (202) 482-3207.

SUPPLEMENTARY INFORMATION:

Background

On June 1, 2020, Commerce published the CVD order on ceramic tile from China.¹ On May 1, 2025, Commerce published the notice of initiation of the first sunset review of the Order, pursuant to section 751(c) of the Tariff Act of 1930, as amended (the Act), and 19 CFR 351.218(c).

¹ See, Ceramic Tile From the People's Republic of China: Countervailing Duty Order, 85 FR 33119 (June 1, 2020) (Order).

On May 16, 2025, Commerce received a notice of intent to participate in this review from The Coalition for Fair Trade in Ceramic Tile (the Coalition or the domestic interested party), within the deadline specified in 19 CFR 351.218(d)(1)(i).² The domestic interested party claims that it has interested party status within the meaning of section 771(9)(E) of the Act and 19 CFR 351.102(b)(29)(vii) as a trade or business association, a majority of whose members manufacture, produce, or wholesale a domestic like product in the United States.³

² See Domestic Interested Party's Letter, “Sunset Review Ceramic Tile from China: Petitioner's Notice of Intent to Participate,” dated May 16, 2025.

³ Id. at 2.

On June 2, 2025, Commerce received an adequate substantive response from the Coalition, within the 30-day deadline specified in 19 CFR 351.218(d)(3)(i).⁴ Commerce did not receive a substantive response from either the Government of China or a respondent interested party to this proceeding. On June 20, 2025, Commerce notified the U.S. International Trade Commission (ITC) that it did not receive an adequate substantive response from respondent interested parties.⁵ As a result, Commerce conducted an expedited (120-day) sunset review of the Order, pursuant to section 751(c)(3)(B) of the Act and 19 CFR 351.218(e)(1)(ii)(B)(2) and (C)(2).

⁴ See Domestic Interested Party's Letter, “Substantive Response of the Coalition for Fair Trade in Ceramic Tile to the Notice of Initiation of First Five-Year Sunset Review of Ceramic Tile from China,” dated June 2, 2025.

⁵ See Commerce's Letter, “Sunset Reviews Initiated on May 1, 2025,” dated June 20, 2025.

Scope of the Order

The product covered by this Order is ceramic tile from China. For a full description of the scope of the Order, see the Issues and Decision Memorandum.⁶

⁶ See Memorandum, “Issues and Decision Memorandum for the Final Results of the Expedited Sunset Review of the Countervailing Duty Order on Ceramic Tile from the People's Republic of China,” dated concurrently with, and hereby adopted by, this notice (Issues and Decision Memorandum).

Analysis of Comments Received

A complete discussion of all issues raised in this sunset review, including the likelihood of continuation or recurrence of subsidization and the countervailable subsidy rates likely to prevail if the Order were to be revoked, is contained in the Issues and Decision Memorandum.⁷ A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, complete versions of the Issues and Decision Memorandum can be accessed directly at https://access.trade.gov/public/FRNoticesListLayout.aspx.

⁷ Id.

Final Results of Sunset Review

Pursuant to sections 751(c) and 752(b) of the Act, Commerce determines that revocation of the Order would be likely to lead to continuation or recurrence of countervailable subsidies at the following net countervailable subsidy rates:

Producers/exporters | Net countervailable subsidy rate (percent ad valorem)
Temgoo International Trading Limited | 358.81
Foshan Sanfi Imp & Emp Co., Ltd. | 358.81
All Others | 358.81

Notification Regarding Administrative Protective Order (APO)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: August 20, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-16229 Filed 8-22-25; 8:45 am]

BILLING CODE 3510-DS-P